DEPARTMENT OF DEFENSE

Office of the Secretary

[Docket ID DoD-2022-OS-0052]

Submission for OMB Review; Comment Request

AGENCY: Cost Assessment and Program Evaluation (CAPE), Department of Defense (DoD).

ACTION: 30-Day information collection notice.

SUMMARY: The Department of Defense has submitted to OMB for clearance the following proposal for collection of information under the provisions of the Paperwork Reduction Act.

DATES: Consideration will be given to all comments received by September 6, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Software Resource Data Reports; DD Forms 3026-1, 3026-2, 3026-3; OMB Control Number 0704-SRDR.

Type of Request: New request.

DD 3026-1

Number of Respondents: 12.

Responses per Respondent: 12.

Annual Responses: 144.

Average Burden per Response: 16 hours.

Annual Burden Hours: 2,304.

DD 3026-2

Number of Respondents: 11.

Responses per Respondent: 14.

Annual Responses: 154.

Average Burden per Response: 16 hours.

Annual Burden Hours: 2,464.

DD 3026-3

Number of Respondents: 12.

Responses per Respondent: 11.

Annual Responses: 132.

Average Burden per Response: 16 hours.

Annual Burden Hours: 2,112.

Needs and Uses: The intent of the Software Resource Date Reports is to capture software resource and effort data, at the Software Release and Computer Software Configuration Item levels that are significant either for a current program, or when a similar effort may be required for a future program. The collected data is the primary data source utilized when completing cost estimates. Respondents are any weapon system contractor or government entity with contracts, subcontracts, or agreements that are required to provide Cost and Software Data Reports based on all anticipated costs that individually or collectively surpass the corresponding dollar thresholds established in DoDI 5000.73.

Affected Public: Business or other for-profit.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 1, 2022.
Aaron T. Siegel,
Alternate OSD Federal Register Liaison Officer, Department of Defense.

[FR Doc. 2022-16761 Filed 8-3-22; 8:45 am]

BILLING CODE 5001-06-P